DEPARTMENT OF ENERGY

Federal Energy Regulatory Commission

[Docket No. CP00-426-000]

ONEOK Midstream Pipeline Inc.; Notice of Application

August 9, 2000.

Take notice that on August 1, 2000, ONEOK Midstream Pipeline, Inc. (ONEOK Midstream), 100 West Fifth Street, Tulsa, P.O. Box 871, Oklahoma 74102, filed an application in Docket No. CP00-426-000, pursuant to section 7(b) of the Natural Gas Act (NGA) for permission and approval to abandon all of its jurisdictional facilities and services, all as more fully set forth in the application which is on file with the Commission and open to public inspection. This filing may be viewed on the web at http://www.ferc/us/online/rims.htm (call 202-208-2222).

ONEOK Midstream proposes to abandon its entire pipeline system which consists of 27-miles of 16-inch pipeline in Garvin county, Oklahoma. It is stated that the facilities extend downstream of the Rodman Plant to interconnects with Williams Gas Pipelines Central, Inc. (Williams), ONEOK Gas Transportation, L.L.C. (OGT), Transok, Inc. (Transok), and Reliant Interstate Gas Transmission Company. It is indicated that OGT and Transok are intrastate pipelines. ONEOK Midstream submits that its facilities qualify as a gathering system exempt from Commission jurisdiction under section 1(b) of the Natural Gas Act. ONEOK Midstream points out that the Commission previously determined in an order issued in Docket No. CP92-351-000 that the Rodman Plant and the facilities upstream of the plant were gathering facilities, and cites several Commission cases in which the Commission determined that facilities downstream of a processing plant were likewise gathering facilities.

Any person desiring to be heard or to make protest with reference to said application should on or before August 30, 2000, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's Rules.

Take further notice that, pursuant to the authority contained in and subject to jurisdiction conferred upon the Commission by sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for ONEOK Midstream to appear or be represented at the hearing.

David P. Boergers,
Secretary.

[FR Doc. 00-20634 Filed 8-14-00; 8:45 am]

BILLING CODE 6717-01-M